DEPARTMENT OF COMMERCE

National Oceanic and Atmospheric Administration

Evaluation of State Coastal Management Programs and National Estuarine Research Reserves

AGENCY: National Oceanic and Atmospheric Administration (NOAA), Office of Ocean and Coastal Resource Management, National Ocean Service, Commerce.

ACTION: Notice of intent to evaluate and notice of availability of final findings.

SUMMARY: The NOAA Office of Ocean and Coastal Resource Management (OCRM) announces its intent to evaluate the performance of the Mississippi Coastal Management Program; the Sapelo Island National Estuarine Research Reserve, Georgia; and the North Carolina National Estuarine Research Reserve.

The Coastal Zone Management Program evaluation will be conducted pursuant to section 312 of the Coastal Zone Management Act of 1972, as amended, (CZMA) and regulations at 15 CFR part 923, subpart L. The National Estuarine Research Reserve evaluations will be conducted pursuant to sections 312 and 315 of the CZMA and regulations at 15 CFR part 921, subpart E and part 923, subpart L.

The CZMA requires continuing review of the performance of states with respect to coastal program implementation. Evaluation of Coastal Zone Management Programs and National Estuarine Research Reserves requires findings concerning the extent to which a state has met the national objectives, adhered to its Coastal Management Program document or Reserve final management plan approved by the Secretary of Commerce, and adhered to the terms of financial assistance awards funded under the CZMA.

The evaluations will include a site visit, consideration of public comments, and consultations with interested Federal, state and local agencies and members of the public. Public meetings will be held as part of the site visits.

Notice is hereby given of the dates of the site visits for the listed evaluations, and the dates, local times, and locations of the public meetings during the site visits.

The Mississippi Coastal Management Program evaluation site visit will be held December 6-10, 2004. One public meeting will be held during the week. The public meeting will be on Monday, December 6, 2004, at 5 p.m., at the Mississippi Department of Marine Resources Auditorium, 1141 Bay View Avenue, Biloxi, Mississippi.

The Sapelo Island National Estuarine Research Reserve, Georgia, evaluation site visit will be held December 14-16, 2004. One public meeting will be held during the week. The public meeting will be held on Wednesday, December 15, 2004, at 7 p.m., at the Sapelo Island Visitor Center, Landing Road/Route 1, Meridian, Georgia.

The North Carolina National Estuarine Research Reserve evaluation site visit will be held December 6-10, 2004. Three public meetings will be held during the week. The first public meeting will be held on Tuesday, December 7, 2004, at 7 p.m. at the Currituck County Library—Corolla Branch, 1123 Ocean Trail, Corolla, North Carolina. The second public meeting will be held on Wednesday, December 8, 2004, at 7 p.m. at the C-MAST Building, third floor Library Conference Room, 303 College Circle, Morehead City, North Carolina. The third public meeting will be held on Thursday, December 9, 2004, at 7 p.m. at the North Carolina Department of Environment and Natural Resources Regional Office, Room 200, 127 Cardinal Drive Ext., Wilmington, North Carolina.

Copies of states' most recent performance reports, as well as OCRM's notifications and supplemental request letters to the state, are available upon request from OCRM. Written comments from interested parties regarding these Programs are encouraged and will be accepted until 15 days after the last public meeting held for that Program. Please direct written comments to Ralph Cantral, Chief, National Policy and Evaluation Division, Office of Ocean and Coastal Resource Management, NOS/NOAA, 1305 East-West Highway, 10th Floor, Silver Spring, Maryland 20910. When the evaluations are completed, OCRM will place a notice in the Federal Register announcing the availability of the Final Evaluation Findings.

Notice is hereby given of the availability of the final evaluation findings for the Virginia and New York Coastal Management Programs (CMPs); and the Old Woman Creek (Ohio) and Jacques Cousteau (New Jersey) National Estuarine Research Reserves (NERRs). Sections 312 and 315 of the Coastal Zone Management Act of 1972 (CZMA), as amended, require a continuing review of the performance of coastal states with respect to approval of CMPs and the operation and management of NERRs.

The states of Virginia and New York were found to be implementing and enforcing their federally approved coastal management programs, addressing the national coastal management objectives identified in CZMA Section 303(2)(A)-(K), and adhering to the programmatic terms of their financial assistance awards. Old Woman Creek (Ohio) and Jacques Cousteau (New Jersey) NERRs were found to be adhering to programmatic requirements of the NERR System.

Copies of these final evaluation findings may be obtained upon written request from: Ralph Cantral, Chief, National Policy and Evaluation Division, Office of Ocean and Coastal Resource Management, NOS/NOAA, 1305 East-West Highway, 10th Floor, Silver Spring, Maryland 20910, or Ralph.Cantral@noaa.gov, (301) 713-3155, extension 118.

FOR FURTHER INFORMATION CONTACT: Ralph Cantral, Chief, National Policy and Evaluation Division, Office of Ocean and Coastal Resource Management, NOS/NOAA, 1305 East-West Highway, 10th Floor, Silver Spring, Maryland 20910, (301) 713-3155, extension 118.

Dated: September 27, 2004.
Eldon Hout,
Director, Office of Ocean and Coastal Resource Management.

[FR Doc. 04-23164 Filed 10-14-04; 8:45 am]

BILLING CODE 3510-08-P